DEPARTMENT OF LABOR

48 CFR Part 2902

[DOL Docket No. DOL-2019-0002]

RIN 1291-AA42

Department of Labor Acquisition Regulations: Definitions for Head of Agency, Head of Contracting Activity, and Senior Procurement Executive

AGENCY: Office of the Assistant Secretary for Administration and Management, Department of Labor.

ACTION: Final rule; confirmation of effective date.

SUMMARY: The Department of Labor (Department) is confirming the effective date of its direct final rule (DFR) amending three definitions in the Department of Labor Acquisition Regulation (DOLAR). These changes provide the Secretary of Labor with greater flexibility and a streamlined procedure to delegate procurement authority and appoint procurement officials. In the Department's August 29, 2019 DFR, the Department stated that the DFR would become effective on October 28, 2019, if the Department received no significant adverse comments in response to the DFR. The Department did not receive any comments in response.

DATES: This document confirms that the effective date of the DFR published on August 29, 2019 (84 FR 45434) is October 28, 2019. For purposes of judicial review, the Department considers the date of publication of this document as the date of promulgation of the DFR.

FOR FURTHER INFORMATION CONTACT: Press inquiries: Ms. Megan P. Sweeney, Office of Public Affairs, Room No. S-2514, U.S. Department of Labor, 200 Constitution Ave, NW, Washington, DC 20210; telephone: (202) 693-4676; email: sweeney.megan.p@dol.gov.

General information: Herman J. Narcho, U.S. Department of Labor, Office of the Assistant Secretary for Administration and Management, Office of the Chief Procurement Officer, 200 Constitution Avenue NW, Room N-5305, Washington, DC 20210; telephone (202) 693-7171 (this is not a toll-free number).

SUPPLEMENTARY INFORMATION:

I. Confirmation of Effective Date

On August 29, 2019, the Department published a DFR amending three DOLAR definitions found at 48 CFR 2902.101(b): Head of Agency, Head of Contracting Activity, and Senior Procurement Executive. The Department stated that it would publish another document confirming the effective date of the DFR if it received no significant adverse comments. The Department received no significant adverse comments. Accordingly, the Department is hereby confirming that the effective date of the DFR published on August 29, 2019, is October 28, 2019.

II. OMB Review Under the Paperwork Reduction Act of 1995

This action does not add or change any information collection requirements subject to OMB approval under the Paperwork Reduction Act of 1995 (PRA), 44 U.S.C. 3501 et seq., and its implementing regulations at 5 CFR part 1320. The PRA defines a collection of information as the obtaining, causing to be obtained, soliciting, or requiring the disclosure to third parties or the public of facts or opinions by or for an agency regardless of form or format. See 44 U.S.C. 3502(3)(A).

In the DFR published on August 29, 2019, the Department provided 30 days for the public to comment on whether approved information collections would be affected by this rulemaking. The agency did not receive any comments on paperwork in response to that notice.

List of Subjects in 48 CFR Part 2902

Government procurement.

Bryan Slater,
Assistant Secretary for Administration and Management, Labor.

[FR Doc. 2019-24682 Filed 11-14-19; 8:45 am]

BILLING CODE 4510-04-P